DEPARTMENT OF ENERGY

Federal Energy Regulatory Commission

Combined Notice of Filings

Take notice that the Commission has received the following Natural Gas Pipeline Rate and Refund Report filings:

Filings Instituting Proceedings

Docket Numbers: RP13-1276-000.

Applicants: Texas Eastern Transmission, LP.

Description: Statoil 8929736 9-1-2013 Negotiated Rate to be effective 9/1/2013.

Filed Date: 8/29/13.

Accession Number: 20130829-5047.

Comments Due: 5 p.m. ET 9/10/13.

Docket Numbers: RP13-1277-000.

Applicants: Natural Gas Pipeline Company of America.

Description: FPLE Forney Negotiated Rate to be effective 9/1/2013.

Filed Date: 8/29/13.

Accession Number: 20130829-5061.

Comments Due: 5 p.m. ET 9/10/13.

Docket Numbers: RP13-1278-000.

Applicants: Southeast Supply Header, LLC.

Description: Negotiated Rate Clean Up Filing to be effective 9/30/2013.

Filed Date: 8/29/13.

Accession Number: 20130829-5063.

Comments Due: 5 p.m. ET 9/10/13.

Docket Numbers: RP13-1279-000.

Applicants: Gulfstream Natural Gas System, L.L.C.

Description: August 29, 2013 Clean-up Filing to be effective 9/30/2013.

Filed Date: 8/29/13.

Accession Number: 20130829-5065.

Comments Due: 5 p.m. ET 9/10/13.

Docket Numbers: RP13-1280-000.

Applicants: Texas Eastern Transmission, LP.

Description: 2013 Operational Entitlements Filing.

Filed Date: 8/29/13.

Accession Number: 20130829-5074.

Comments Due: 5 p.m. ET 9/10/13.

Docket Numbers: RP13-1281-000.

Applicants: Natural Gas Pipeline Company of America.

Description: EDF Negotiated Rate FTS to be effective 9/1/2013.

Filed Date: 8/29/13.

Accession Number: 20130829-5086.

Comments Due: 5 p.m. ET 9/10/13.

Docket Numbers: RP13-1282-000.

Applicants: Southeast Supply Header, LLC.

Description: SESH Pass Through of Negotiated Usage and Fuel Rates to be effective 10/1/2013.

Filed Date: 8/29/13.

Accession Number: 20130829-5105.

Comments Due: 5 p.m. ET 9/10/13.

Docket Numbers: RP13-1283-000.

Applicants: Dominion Transmission, Inc.

Description: DTI—Volume No. 2 Rate Schedule Cancellations and Related Changes to be effective 9/30/2013.

Filed Date: 8/29/13.

Accession Number: 20130829-5151.

Comments Due: 5 p.m. ET 9/10/13.

Docket Numbers: RP13-1284-000.

Applicants: Equitrans, L.P.

Description: 115SS and 60SS Variable Storage Contract Demand Filing to be effective 9/30/2013.

Filed Date: 8/30/13.

Accession Number: 20130830-5001.

Comments Due: 5 p.m. ET 9/11/13.

Docket Numbers: RP13-1285-000.

Applicants: Stingray Pipeline Company, L.L.C.

Description: Stingray Pipeline Company, L.L.C. submits Events Surcharge tracker.

Filed Date: 8/29/13.

Accession Number: 20130829-5194.

Comments Due: 5 p.m. ET 9/10/13.

Docket Numbers: RP13-1286-000.

Applicants: Petrohawk Energy Corporation, HK Energy Marketing, LLC.

Description: Joint Petition of Petrohawk Energy Corporation and HK Marketing, LLC for Temporary Waivers of Capacity Release Regulations and Policies, and Request for Shortened Comment Period and Expedited Treatment.

Filed Date: 8/29/13.

Accession Number: 20130829-5195.

Comments Due: 5 p.m. ET 9/6/13.

Docket Numbers: RP13-1287-000.

Applicants: Sea Robin Pipeline Company, LLC.

Description: Hurricane Surcharge Filing on 8-30-13 to be effective 10/1/2013.

Filed Date: 8/30/13.

Accession Number: 20130830-5014.

Comments Due: 5 p.m. ET 9/11/13.

Docket Numbers: RP13-1288-000.

Applicants: Texas Gas Transmission, LLC.

Description: Neg Rate Agmts related to permanent and temporary capacity releases to be effective 9/1/2013.

Filed Date: 8/30/13.

Accession Number: 20130830-5015.

Comments Due: 5 p.m. ET 9/11/13.

Docket Numbers: RP13-1289-000.

Applicants: Florida Gas Transmission Company, LLC.

Description: Fuel Filing on 8-30-13 to be effective 10/1/2013.

Filed Date: 8/30/13.

Accession Number: 20130830-5018.

Comments Due: 5 p.m. ET 9/11/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP08-257-000.

Applicants: Saltville Gas Storage Company L.L.C.

Description: Petition to Amend Stipulation and Agreement and Motion for Shortened Answer Period and Request for Expedited Action of Saltville Gas Storage Company L.L.C.

Filed Date: 8/28/13.

Accession Number: 20130828-5195.

Comments Due: 5 p.m. ET 9/4/13.

Docket Numbers: RP13-545-001.

Applicants: Tennessee Gas Pipeline Company, L.L.C.

Description: EP2DART Conversion to be effective 10/1/2013.

Filed Date: 8/29/13.

Accession Number: 20130829-5118.

Comments Due: 5 p.m. ET 9/10/13.

Docket Numbers: RP13-556-004.

Applicants: Gulf Shore Energy Partners, LP.

Description: Gulf Shore Energy Partners, LP GAS TARIFF ORIGINAL VOLUME NO. 1—Compliance to be effective 8/28/2013.

Filed Date: 8/29/13.

Accession Number: 20130829-5062.

Comments Due: 5 p.m. ET 9/10/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2013.
Nathaniel J. Davis, Sr.,
Deputy Secretary.

[FR Doc. 2013-21731 Filed 9-5-13; 8:45 am]

BILLING CODE 6717-01-P